DEPARTMENT OF COMMERCE

National Oceanic and Atmospheric Administration

RIN 0648-XG56

Endangered and Threatened Species; Take of Anadromous Fish

AGENCY: NOAA's National Marine Fisheries Service (NMFS), National Oceanic and Atmospheric Administration (NOAA), U. S. Department of Commerce.

ACTION: Notice of receipt of a permit application; request for comments.

SUMMARY: Notice is hereby given that NMFS has received an application for a permit to conduct research for scientific purposes from Rosi Dagit, Senior Conservation Biologist for the Resource Conservation District of the Santa Monica Mountains, in southern California. The requested permit would affect the Southern California Coast Distinct Population Segment of endangered steelhead trout (Oncorhynchus mykiss). The public is hereby notified of the availability of the permit application for review and comment before NMFS either approves or disapproves the application.

DATES: Written comments on the permit application must be received at the appropriate address or fax number on or before April 23, 2008.

ADDRESSES: Written comments on the permit application should be sent to Matt McGoogan, Protected Resources Division, NMFS, 501 W. Ocean Blvd., Suite 4200, Long Beach, CA 90802. Comments may also be sent using email (FRNpermits.lb@noaa.gov) or fax (562-980-4027). The permit application is available for review, by appointment only, at the foregoing address.

FOR FURTHER INFORMATION CONTACT: Matt McGoogan at phone number (562-980-4026) or e-mail: matthew.mcgoogan@noaa.gov.

SUPPLEMENTARY INFORMATION:

Authority:

Issuance of permits, as required by the Endangered Species Act of 1973 (16 U.S.C. 1531B1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

Rosi Dagit has applied for a permit to conduct a study with the Southern California Coast Distinct Population Segment of endangered steelhead trout (Oncorhynchus mykiss) in streams emptying to the Santa Monica Bay of southern California, with specific focus on Topanga, Arroyo Sequit, and Malibu Creeks. The purpose of this study is to use monitoring methods to gather information that will contribute to the understanding of migration patterns and the abundance and distribution of steelhead in Topanga Creek and the Santa Monica Bay streams. Monitoring methods include using mask and snorkel as the methods for estimating abundance and distribution of juvenile and adult steelhead in the streams of Santa Monica Bay including Topanga, Arroyo Sequit, and Malibu Creeks. In addition to snorkel surveys, study activities in Topanga Creek will also include migratory trapping and Passive Integrated Transponder (PIT) tagging. In addition to migratory trapping, sampling methods to obtain steelhead for PIT tagging may include use of a seine, angling, or electro fishing. Field activities related to this study will occur between June 2008 and May 2010. For this 2 year study, Rosi Dagit has requested an annual non-lethal take of 140 juvenile steelhead (ranging in length up to 250 mm) and 50 adult class steelhead (steelhead >250 mm). Of these adult class steelhead, it is expected that annually not more than 10 of those 50 would be large adults migrating in from the ocean. An annual collection and possession of up to 190 steelhead tissue samples is being requested as well as permission to recover up to five carcasses per year (if found). All samples and carcasses would be sent to NMFS science center for genetic research and processing. The unintentional lethal take that may occur during trapping, sampling, and PIT tagging activities on Topanga Creek is up to six steelhead per year or no more than 3 percent of the total captured.

Dated: March 19, 2008.
Angela Somma,
Chief, Endangered Species Division, Office of Protected Resources, National Marine Fisheries Service.

[FR Doc. E8-5901 Filed 3-21-08; 8:45 am]

BILLING CODE 3510-22-S